DEPARTMENT OF COMMERCE

National Oceanic and Atmospheric Administration

[Docket No. 030602141-5340-33; I.D. 061505A]

RIN 0648-ZB55

Availability of Grant Funds for Fiscal Year 2006

AGENCY: National Oceanic and Atmospheric Administration (NOAA), Department of Commerce (DOC).

ACTION: Omnibus notice; availability of grant funds.

SUMMARY: The National Oceanic and Atmospheric Administration (NOAA) announces a second availability of grant funds for Fiscal Year 2006. The purpose of this notice is to provide the general public with a consolidated source of program and application information related to NOAA's competitive grant offerings. It contains the information about those programs as required to be published in the Federal Register. This omnibus notice is designed to replace multiple Federal Register notices that traditionally advertised the availability of NOAA's discretionary funds for its various programs. Applicants must comply with all requirements contained in the full funding opportunity announcements for each project competition in this announcement. It should be noted that additional program initiatives unanticipated at the time of the publication of this notice may be announced later in the year.

DATES: Applications must be received by the date and time indicated under each program listing in the SUPPLEMENTARY INFORMATION section.

ADDRESSES: Applications must be submitted to the addresses listed in the SUPPLEMENTARY INFORMATION section for each program. This Federal Register notice may be found at the Grants.gov Web site, http://www.grants.gov, and the NOAA Web site at http://www.ago.noaa.gov/grants/funding.shtml.

FOR FURTHER INFORMATION CONTACT: For a copy of the full funding opportunity announcement and/or application kit, access it at Grants.gov, via NOAA's Web site, or by contacting the person listed as the information contact under each program.

SUPPLEMENTARY INFORMATION: NOAA published its first omnibus notice announcing the availability of grant funds for both projects and fellowships/scholarships/internships for Fiscal Year 2006 in the Federal Register on June 30, 2005 (70 FR 37766). The evaluation criteria and selection procedures contained in that notice are applicable to this solicitation. For a copy of the June 30, 2005, omnibus notice, please go to: http://www.Grants.gov or http://www.ago.noaa.gov/grants/funding.shtml. Applicants must comply with all requirements contained in the full funding opportunity announcements for each project competition in this announcement. This omnibus notice describes funding opportunities for the following NOAA discretionary grant programs:

List of NOAA Project Competitions

Detailed information is found elsewhere in this notice.

National Marine Fisheries Service

1. Chesapeake Bay Integrated Science Program

2. Mid-Atlantic Research Set-Aside

3. Proactive Species Conservation Program

National Ocean Service

1. Bay Watershed Education & Training (B-WET) Program, San Francisco and Santa Barbara

2. Geodetic Science and Applied Research

National Weather Service

1. Minority Serving Institution (MSI) Program

Oceanic and Atmospheric Research

1. NOAA's Great Lakes Ecosystem Research Program

2. Sea Grant - Marine Aquaculture Program

3. Sea Grant - Regional Research, Information Planning and Coordination

Electronic Access

As has been the case since October 1, 2004, applicants can access, download and submit electronic grant applications for NOAA Programs through the Grants.gov Web site at www.Grants.gov. These announcements will also be available at the NOAA web site or by contacting the program official identified below. However, applicants without Internet access may still submit hard copies of their applications. The closing dates for applications filed through Grants.gov are the same as for the paper submissions noted in this announcement. For applicants filing through Grants.gov, NOAA strongly recommends that you do not wait until the application deadline date to begin the application process. Registration may take up to 10 business days.

Getting started with Grants.gov is easy! Go to www.Grants.gov. There are two key features on the site: Find Grant Opportunities and Apply for Grants. Everything else on the site is designed to support these two features and your use of them. While you can begin searching for grant opportunities for which you would like to apply immediately, it is recommended that you complete the remaining Get Started steps sooner rather than later, so that when you find an opportunity for which you would like to apply, you are ready to go.

Get Started Step 1 B Find Grant Opportunity for Which You Would Like to Apply

Start your search for Federal government-wide grant opportunities and register to receive automatic e-mail notifications of new grant opportunities or any modifications to grant opportunities as they are posted to the site by clicking the Find Grant Opportunities tab at the top of the page.

Get Started Step 2 B Register with Central Contractor Registry (CCR)

Your organization will also need to be registered with Central Contractor Registry. You can register with them online. This will take about 30 minutes. You should receive your CCR registration within three business days. Important: You must have a DUNS number from Dun & Bradstreet before you register with CCR. Many organizations already have a DUNS number. To determine if your organization already has a DUNS number or to obtain a DUNS number, contact Dun & Bradstreet at 1-866-705-5711. This will take about 10 minutes and is free of charge. Be sure to complete the Marketing Partner ID (MPIN) and Electronic Business Primary Point of Contact fields during the CCR registration process. These are mandatory fields that are required when submitting grant applications through Grants.gov.

Get Started Step 3 B Register with the Credential Provider

You must register with a Credential Provider to receive a username and password. This will be required to securely submit your grant application.

Get Started Step 4 B Register with Grants.gov

The final step in the Get Started process is to register with Grants.gov. This will be required to submit grant applications on behalf of your organization. After you have completed the registration process, you will receive e-mail notification confirming that you are able to submit applications through Grants.gov.

Get Started Step 5 B Log on to Grants.gov

After you have registered with Grants.gov, you can log on to Grants.gov to verify if you have registered successfully, to check application status, and to update information in your applicant profile, such as your name, telephone number, e-mail address, and title. In the future, you will have the ability to determine if you are authorized to submit applications through Grants.gov on behalf of your organization.

NOAA Project Competitions

National Marine Fisheries Service

1. Chesapeake Bay Integrated Science Program

SUMMARY DESCRIPTION: The NOAA Chesapeake Bay Office's (NCBO) Chesapeake Bay Integrated Science Program is a competitive program that supports vital restoration, research, monitoring, analysis, modeling and assessment activities that will assist the Chesapeake Bay Program, NOAA, and other program partners in reaching the goal of effective ecosystem-based management and integrated restoration. All projects supported through this program must address the strategic goals and objectives of NCBO http://noaa.chesapeakebay.net and provide timely information for making resource management decisions in an ecosystem context. Science Program priorities are designed to be responsive to and compatible with the scientific and technical information needs of the Chesapeake Bay as identified on NCBO's Funding Opportunities web page http://noaa.chesapeakebay.net/fundingopportunities.aspx.

FUNDING AVAILABILITY: This solicitation announces funds in the amount of $5,000,000 may be available in FY 2006 in award amounts to be determined by the proposals and available funds. Annual funding is anticipated to fund projects for up to 3 years duration, but is dependent on funding made available in the federal FY06 appropriation. Funding for subsequent years will also depend on the performance of grantees to successfully conduct activities as determined by the Federal Program Officer through performance reports, site visits, and compliance with award conditions. It is the intent of the NOAA Chesapeake Bay Office to renew funding for several projects currently being supported by this ongoing science program, pending successful review of a new workplan and adequate progress reports and/or site visits. It is also the intent of NCBO to award funding to new projects as available funds permit.

STATUTORY AUTHORITY: 16 U.S.C. 661

CFDA: 11.457 Chesapeake Bay Studies

APPLICATION DEADLINE: Full proposals must be received by 5 p.m. eastern time on March 15, 2006. Letters of Intent must be received by 5 p.m. eastern time on February 3, 2006.

ADDRESS FOR SUBMITTING PROPOSAL(S): Electronic application packages are strongly encouraged and are available at: http://www.grants.gov/. If the applicant has difficulty accessing Grants.gov or downloading the required forms from the NCBO Web site, they should contact Derek Orner, NOAA Chesapeake Bay Office; 410 Severn Avenue, Suite 107A, Annapolis, MD 21403, or by phone at 410-267-5676, or fax to 410-267-5666, or via Internet at derek.orner@noaa.gov. Paper applications are available on the NCBO Web site: http://noaa.chesapeakebay.net/ or can be obtained by contacting Derek Orner.

INFORMATION CONTACTS: Derek Orner, NOAA Chesapeake Bay Office; 410 Severn Avenue, Suite 107A, Annapolis, MD 21403, or by phone at 410-267-5676, or fax to 410-267-5666, or via Internet at derek.orner@noaa.gov.

ELIGIBILITY: Eligible applicants are institutions of higher education, other nonprofits, commercial organizations, foreign governments, organizations under the jurisdiction of foreign governments, international organizations, state, local and Indian tribal governments. Federal agencies or institutions are not eligible to receive Federal assistance under this notice.

COST-SHARING REQUIREMENTS: No cost sharing is required under this program, however, the NCBO strongly encourages applicants to share as much of the project costs as possible. Funds from other Federal awards may not be considered matching funds. The nature of the contribution (cash versus in-kind) and the amount of matching funds will be taken into consideration in the review process. Priority selection will be given to proposals that propose cash rather than in-kind contributions.

INTERGOVERNMENTAL REVIEW: Applications under this program are subject to Executive Order 12372, “Intergovernmental Review of Federal Programs.”

2. Mid-Atlantic Research Set-Aside

SUMMARY DESCRIPTION: The research set-aside (RSA) Program provides a mechanism to fund research and compensate vessels through the sale of fish harvested under a research quota. For fishing year 2007 (January 1-December 31, 2007), NOAA's National Marine Fisheries Service (NMFS) announces that up to 3 percent of the total allowable landings (TAL) in certain Mid-Atlantic fisheries may be dedicated to research endeavors under the RSA program. The setting of the actual RSA quotas will be the subject of future rulemaking. NMFS is soliciting proposals for research activities concerning the summer flounder, scup, black sea bass, Loligo squid, Illex squid, Atlantic mackerel, butterfish, bluefish, and tilefish fisheries. The set-asides may range between 0 and 3 percent of each species' TAL. The set-aside allocated for a given species is designated primarily for research involving that species. However, to promote research for species where it would otherwise be infeasible, individual research projects may involve a percentage of the set-aside allocations for several other species listed in this notice. Therefore, in addition to, or in lieu of, applying for part of the set-aside involving a species directly involved in a research project, applicants may also apply for up to 25 percent of the RSA quota for species not directly involved in a particular research project. No Federal funds are provided for research under this notification, but rather the opportunity to fish and sell the catch to generate income to offset research costs. Projects funded under an RSA allocation (or award) must enhance understanding of the fishery resource or contribute to the body of information on which management decisions are made.

FUNDING AVAILABILITY: No Federal funds are provided for research under this notification, but rather the opportunity to fish and sell the catch to generate income. The Federal Government may issue an Exempted Fishing Permit (EFP) or Letter of Acknowledgment (LOA), as applicable, which may provide special fishing privileges in response to research proposals selected under this program. In the past several years, two to five awards have been issued per year. It is anticipated that no more than five awards will be issued for the 2007 fishing year.

STATUTORY AUTHORITY: Issuing grants is consistent with sections 303(b)(11), 402(e), and 404(c) of the Magnuson-Stevens Fishery Conservation and Management Act, 16 U.S.C. 1853(b)(11), 16 U.S.C. 1881a(e), and 16 U.S.C. 1881c(c), respectively.

The award of a set-aside from the TAL of selected species resulted from the approval of Framework Adjustment 1 (Framework 1) to the Atlantic Mackerel, Squid, and Butterfish; Summer Flounder, Scup, and Black Sea Bass; and Bluefish Fishery Management Plans (FMPs); and the RSA provisions of the Tilefish FMP. Framework 1 established a procedure through which RSA amounts are set annually as part of the Mid-Atlantic Fishery Management Council's (Council) quota-setting process and codified in regulations at 50 CFR 648.21(g).

CFDA: 11.454, Unallied Management Projects

APPLICATION DEADLINE: Applications must be received by NMFS on or before 5 p.m. e.s.t. on February 21, 2006.

ADDRESS FOR SUBMITTING APPLICATION(S): Applications should be submitted through http://www.grants.gov, and use the following funding opportunity # NMFS-NERO-2006-2000437 unless an applicant does not have Internet access. In that case, hard copies should be sent to NMFS, Northeast Regional Office, One Blackburn Drive, Gloucester, MA 01930. Mark proposals “Attention: Mid-Atlantic Research Set-Aside Program.”

INFORMATION CONTACT: Daniel Furlong, Executive Director, Mid-Atlantic Fishery Management Council, by phone at 302-674-2331 ext. 19, or fax at 302-674-5399; Clay Heaton, Fishery Management Specialist, Mid-Atlantic Fishery Management Council, by phone 302-674-2331 ext. 13, or via e-mail at cheaton@mafmc.org; or Paul Perra, Fishery Policy Analyst, NMFS, Northeast Regional Office, One Blackburn Drive, Gloucester, MA 01930, by phone 978-281-9153, by fax at 978-281-9135, or via e-mail at paul.perra@noaa.gov.

ELIGIBILITY: Eligible applicants include, but are not limited to, institutions of higher education, hospitals, other nonprofits, commercial organizations, individuals, state, local and Native American tribal governments. Federal agencies and institutions are not eligible to receive Federal assistance under this notice. Additionally, employees of any Federal agency or Regional Fishery Management Council are ineligible to submit an application under this program. However, Council members who are not Federal employees may submit an application.

COST SHARING REQUIREMENTS: None

INTERGOVERNMENTAL REVIEW: Applicants under this program are subject to Executive Order 12372, “Intergovernmental Review of Federal Programs.”

3. Proactive Species Conservation Program

SUMMARY DESCRIPTION: The National Marine Fisheries Service (NMFS) announces the availability of federal funding to support the conservation of marine and anadromous species of concern. To raise awareness of potentially at-risk species and to foster their proactive conservation, the NMFS created a “species of concern” list in April 2004 (69 FR 19975). Under this solicitation, the NMFS is seeking to support the development and implementation of conservation plans for these federally identified species of concern. Any state, tribal, or local entity that has management or regulatory authority over activities that affect these species is eligible to apply. A current list of NMFS' species of concern can be found at http://www.nmfs.noaa.gov/pr/species/concern/#list.

FUNDING AVAILABILITY: Approximately $2.0M in funding may be available for multi-year awards in FY 2006, in award amounts of $400K to $1.0M per fiscal year. Award periods will be for 5 years, with annual funding contingent on the availability of Federal appropriations.

STATUTORY AUTHORITY: 16 U.S.C. 661

CFDA: 11.472, Unallied Science Programs.

APPLICATION DEADLINE: Proposals must be received by 5 p.m. eastern time on March 1, 2006.

ADDRESS FOR SUBMITTING PROPOSAL(S): Applicants should submit proposals online through www.grants.gov. If online submission is not possible, paper or electronic applications may also be submitted to NOAA/NMFS/Office of Protected Resources, Attn: Lisa Manning, 1315 East-West Highway, SSMC3, Silver Spring, MD 20910; e-mail: lisa.manning@noaa.gov.

INFORMATION CONTACTS: Lisa Manning, 1315 East-West Highway, Silver Spring, MD 20910; e-mail: lisa.manning@noaa.gov; phone: 301-713-1401.

ELIGIBILITY: State, local or Indian tribal governments that have regulatory or management authority over activities that affect one or more species of concern identified by NMFS.

COST SHARING REQUIREMENTS: There are no cost-sharing or matching requirements under this solicitation.

INTERGOVERNMENTAL REVIEW: Applications under this program are subject to Executive Order 12372, “Intergovernmental Review of Federal Programs.”

National Ocean Service

1. Bay Watershed Education & Training (B-WET) Program, San Francisco and Santa Barbara

SUMMARY DESCRIPTION: The California B-WET grant program is a competitively based program that supports existing environmental education programs, fosters the growth of new programs, and encourages the development of partnerships among environmental education programs throughout the Monterey Bay, San Francisco Bay and Santa Barbara Channel watersheds. Funded projects provide Meaningful Watershed Experiences for students and Professional Development Opportunities for Teachers in the Area of Environmental Education.

FUNDING AVAILABILITY: This solicitation announces that approximately $1,050,000 may be available in FY 2006 in award amounts to be determined by the proposals and available funds. It is anticipated that approximately 25 grants will be awarded with these funds. This solicitation announces that approximately $1,050,000 may be available in FY 2006 in award amounts to be determined by the proposals and available funds. About $700,000 will be made available to the San Francisco watershed area and about $350,000 will be made available to the Santa Barbara Channel watershed area. About $525,000 will be for proposals that provide opportunities for students to participate in a Meaningful Watershed Experience. About $525,000 will be for proposals that provide opportunities for Professional Development in the area of Environmental Education for Teachers. Proposals may be submitted for up to 3 years. However, funds will be made available for only a 12-month award period and any continuation of the award period will depend on submission of a successful proposal subject to technical and panel reviews, adequate progress on previous award(s), and available funding to continue the award. The National Marine Sanctuary Program may continue funding existing grants that were funded in the previous application process. New grants will be awarded to continue these projects under this announcement pending successful review of a new application package, and adequate progress reports and/or site visits.

STATUTORY AUTHORITY: 16 U.S.C. 1440, 15 U.S.C. 1540.

CFDA: 11.429, Marine Sanctuary Program.

APPLICATION DEADLINE: Proposals must be received by 5 p.m. pacific standard time on February 21, 2006.

ADDRESS FOR SUBMITTING PROPOSAL(S): Applicants are encouraged to submit proposals electronically through the Grants.gov on-line system. If you are submitting hard copy proposals you may send them to Seaberry Nachbar, Monterey Bay National Marine Sanctuary Office; 299 Foam Street, Monterey, CA 93940.

INFORMATION CONTACT: Seaberry Nachbar, phone 831-647-4204, fax 831-647-4250, Internet at seaberry.nachbar@noaa.gov.

ELIGIBILITY: Eligible applicants for both areas of interest are K-through-12 public and independent schools and school systems, institutions of higher education, nonprofit organizations, state or local government agencies, and Indian tribal governments. Individuals and Federal agencies are not eligible.

COST SHARING REQUIREMENTS: No cost sharing is required under this program however, the National Marine Sanctuary Program strongly encourages applicants to share as much of the costs of the award as possible. Funds from other Federal awards may not be considered matching funds. The nature of the contribution (cash versus in-kind) and the amount of matching funds will be taken into consideration in the review process with cash being the preferred method of contribution.

INTERGOVERNMENTAL REVIEW: Applications under this program are not subject to Executive Order 12372, “Intergovernmental Review of Federal Programs.”

2. Geodetic Science and Applied Research (GSAR) Program

SUMMARY DESCRIPTION: The GSAR Program represents an NOAA/NGS effort to conduct basic and applied research in the geodetic sciences that advances positioning operations and services in support of transportation and commerce on a national basis. This opportunity is focused on a specific problem: To develop scientific and management applications for the Shallow Water Positioning System (SWaPS). Post-processing the GPS data allows the user to recover the same position again with sub-meter accuracy. There are at least five additional priorities that will be addressed in the future in the GSAR Program.

FUNDING AVAILABILITY: This funding opportunity announces that $27,300 will be available through this announcement for fiscal year 2006. Proposals should be prepared assuming a three-year budget of no more than $75,000. It is expected that one award will be made, depending on availability of funds.

STATUTORY AUTHORITY: 33 U.S.C. 883d.

CFDA: 11.400, Applied Geodetic Research.

APPLICATION DEADLINE: Proposals must be received by the NGS no later than 5 p.m., eastern standard time January 23, 2006.

ADDRESS FOR SUBMITTING PROPOSAL(S): Proposals should be submitted through Grants.gov APPLY. For those applicants without Internet access, proposals should be submitted to: Geosciences Research Division; NOAA National Geodetic Survey; N/NGS6; 1315 East-West Highway, Room 8106; Silver Spring, MD 20910.

INFORMATION CONTACTS: Dr. Gerald Mader: (301) 713-2854 ext. 201, or fax to (301) 713-4176, or via Internet at Gerald.L.Mader@noaa.gov.

ELIGIBILITY: Eligible applicants are institutions of higher education, other nonprofits, commercial organizations, international organizations, state, local, and Indian tribal governments and federally funded educational institutions such as the Naval Postgraduate School. Please Note: Before non-NOAA Federal applicants may be funded, they must demonstrate that they have legal authority to receive funds from another Federal agency in excess of their appropriation. Because this announcement is not proposing to procure goods or services from applicants, the Economy Act (31 U.S.C. 1535) is not an appropriate legal basis.

COST SHARING REQUIREMENTS: No cost sharing is required under this program.

INTERGOVERNMENTAL REVIEW: Applications under this program are not subject to Executive Order 12372, “Intergovernmental Review of Federal Programs.”

National Weather Service

1. Minority Serving Institution (MSI) Program

SUMMARY DESCRIPTION: NWS is soliciting projects to be conducted by university investigators for 1-year or 2-years, with an anticipated start date of [244 days after RFA publication date or nearest first day of the month]. The NWS MSI Program represents an NOAA/NWS effort to promote and increase diversity in the atmospheric and related sciences through collaborative research between operational forecasters and academic institutions which have expertise in the environmental sciences, as well as capacity building for colleges and universities with emerging programs. These activities will engage researchers and students in applied research of interest to the operational meteorological community and develop new educational opportunities for the public.

FUNDING AVAILABILITY: Approximately $150,000 will be available through this announcement for fiscal year 2006. Proposals should be prepared assuming an annual budget of no more than $50,000. It is expected that approximately three awards will be made, depending on availability of funds.

STATUTORY AUTHORITY: 15 USC 313; 49 USC 44720(b); 33 USC 883d; 15 USC 2904; 15 USC 2934

CFDA: 11.468, Applied Meteorological Research

APPLICATION DEADLINE: Proposals must be received by the NWS no later than 5 p.m., e.s.t., March 23, 2006.

ADDRESS FOR SUBMITTING PROPOSAL(S): Proposals should be submitted through Grants.gov. For applicants without Internet access, send hard copies of proposals to: OAA/NWS; 1325 East-West Highway, Room 15330; Silver Spring, Maryland 20910-3283.

INFORMATION CONTACT: Sam Contorno, NOAA/NWS; 1325 East-West Highway, Room 15330, Silver Spring, MD 20910-3283, or by phone at 301-713-3557 ext. 150, or fax to 301- 3-1253, or via Internet at samuel.contorno@noaa.gov.

ELIGIBILITY: Minority Serving Institutions eligible to submit proposals include institutions of higher education identified by the Department of Education as: (i) Historically Black Colleges and Universities, (ii) Hispanic-Serving Institutions, (iii) Tribal Colleges and Universities, or (iv) Alaska Native or Native Hawaiian Serving Institutions on the most recent “United States Department of Education Accredited Post-Secondary Minority Institutions” list (at the date of publication of this announcement). Proposals will not be accepted from non-profit organizations, foundations, auxiliary services or any other entity on behalf of MSIs.

COST SHARING REQUIREMENTS: None.

INTERGOVERNMENTAL REVIEW: Applications under this program are not subject to Executive Order 12372, “Intergovernmental Review of Federal Programs.”

Oceanic and Atmospheric Research (OAR)

1. NOAA's Great Lakes Ecosystem Research Program

SUMMARY DESCRIPTION: Great Lakes Environmental Research Laboratory (GLERL) is actively involved in research on ecological prediction, aquatic invasive species, physical environment prediction, and environmental observing systems. Specific research projects include studies on the zebra mussel in the Great Lakes, the impacts of climate change on the Great Lakes and mid-U.S. water resources, the development of coastal environmental forecast systems, Great Lakes water supplies, water level forecasting, food web interactions and regulation and forecasting risks to Human Health (e.g. beach closings, drinking water quality and harmful algal blooms).

FUNDING AVAILABILITY: Total anticipated federal funding for FY 2006 is $2.1M in first year funding for 40 - 200 number of awards. Federal Funding for FY 2007 and beyond may be used in part to fund some awards submitted under this competition. We anticipate that the annual cost of most funded projects will fall between $1,000 and $200,000 per year. Actual funding levels will depend upon the final FY 2006 and subsequent budget appropriations.

STATUTORY AUTHORITY: 33 USC 883d.

CFDA: 11.460, Special Oceanic and Atmospheric Projects

APPLICATION DEADLINE: Letters of Intent should be received at GLERL no later than 5 p.m. eastern standard time, February 15, 2006. Full proposals must be received no later than 5 p.m. eastern standard time, March 15, 2006.

ADDRESS FOR SUBMITTING PROPOSAL(S): Letters of Intent (LOI). LOIs are encouraged to be submitted by facsimile or e-mail to the identified NOAA program element's program manager or to GLERLgrants@noaa.gov. If an applicant does not have Internet access, LOI hard copies should be sent to the Program Managers listed with each program in the Program Priorities section or to the GLERL Grants Manager, Sandra Salyers, NOAA/GLERL, 2205 Commonwealth Blvd., Ann Arbor, MI, 48103, phone 734-741-2246. Proposals should be submitted through Grants.gov APPLY http://www.grants.gov. If an applicant does not have Internet access, please contact the GLERL Grants Manager (see above) for hard copy instructions.

INFORMATION CONTACT: Sandra Salyers, NOAA/GLERL, 2205 Commonwealth Blvd; Ann Arbor, MI, 48103, phone 734-741-2246

ELIGIBILITY: Eligible applicants are institutions of higher education, other nonprofits, commercial organizations, international organizations, state, local and Indian tribal governments. Federal agencies or institutions are not eligible to receive Federal assistance under this notice.

COST SHARING REQUIREMENTS: No cost sharing is required.

INTERGOVERNMENTAL REVIEW: Applications under this program are not subject to Executive Order 12372, “Intergovernmental Review of Federal Programs.”

2. Sea Grant - Marine Aquaculture Program

SUMMARY DESCRIPTION: NOAA is seeking preliminary proposals and full proposals for demonstration projects and innovative research for the development of environmentally and economically sustainable marine aquaculture in nearshore, open water, and terrestrial environments. The Great Lakes are considered marine for this competition. Priorities include: (1) site specific commercial/pilot scale projects to demonstrate technical and economic feasibility; (2) studies to assess environmental impacts of current marine aquaculture facilities; (3) development of environmental models and GIS tools to aid site selection for new facilities; and (4) research on such topics as husbandry techniques and production systems, nutrition, disease diagnostics and control, economic and marketing analyses, product transport, worker safety, and others.

Projects funded under this competition should support NOAA's overall goals for its marine aquaculture program, which are to: (1) Establish a comprehensive regulatory program for the conduct of marine aquaculture operations; (2) Develop appropriate technologies to support commercial marine aquaculture and enhancement of wild stocks; (3) Establish and implement procedures for the environmental assessment and monitoring of marine aquaculture activities; (4) Conduct education and outreach activities to establish a well informed public on marine aquaculture; and (5) Meet international obligations to promote environmentally sustainable practices for the conduct of marine aquaculture. Accomplishment of these goals should lead to a well-managed marine aquaculture industry in the United States; a well-informed public that understands U.S. aquaculture issues, and improved access to the latest aquaculture research results.

FUNDING AVAILABILITY: Up to $4 million will be available for proposals of one or two years duration, with individual projects up to $800,000. It is anticipated that we will make approximately ten awards, two or three pilot scale demonstration projects at the $800,000 level for the two-year period and the remainder at or about the $200,000 level.

STATUTORY AUTHORITY: 33 U.S.C. 1121-1131

CFDA: 11.417, Sea Grant Support

APPLICATION DEADLINE: Preliminary proposals: 4 p.m., e.s.t., on February 28, 2006. Full proposals: 4 p.m., e.d.s.t., April 13, 2006.

ADDRESS FOR SUBMITTING APPLICATIONS: Preliminary proposals should be submitted in hard copy only. Preliminary proposals and full proposals from those that do not have access to Internet should be sent to: James McVey, NOAA R/SG; 1315 East-West Highway, Bldg SSMC 3, Room 11828, Silver Spring, MD 20910-3283, tel. 301-713-2435.

Applications for full proposals are made through grants.gov. For academic submissions from Sea Grant states it is recommended that you contact your local Sea Grant Director to facilitate full proposal submission through Grants.gov.

INFORMATION CONTACT: Dr. James McVey, 301-713-2435; via Internet at Jim.McVey@noaa.gov.

ELIGIBILITY: Institutions of higher education, nonprofit organizations, commercial organizations, Federal, state, local and Indian tribal governments are eligible. Only those who submit preliminary proposals by the preliminary proposal deadline are eligible to submit full proposals.

COST SHARING REQUIREMENTS: None

INTERGOVERNMENTAL REVIEW: Applications under this program are not subject to Executive Order 12372, Intergovernmental Review of Federal Programs.

3. Sea Grant - Regional Research, Information Planning and Coordination

SUMMARY DESCRIPTION: The NOAA National Sea Grant College Program (Sea Grant) is soliciting proposals for the development of regional research and information plans for U.S. coastal, ocean, and Great Lakes areas. The objective is to use Sea Grant's university capabilities to facilitate discussions among the broad range of regional ocean, coastal, and Great Lakes stakeholders to help identify and prioritize critical resource management problems and associated research and information needs necessary for practical solutions.

FUNDING AVAILABILITY: NOAA Sea Grant will make available $750,000 in FY 2006, $1,375,000 in FY2007, $925,000 in FY2008, $550,000 in FY2009, $550,000 in FY2010, and $250,000 in FY2011 (assuming appropriations are available) for grants to regional planning teams. A total of $250,000 of federal Sea Grant funds will be made available for each region over two years to cover the completion of a regional research and information plan. In FY2006, $750,000 will be made available for six regions. In FY2007, $1,375,000 will be made available for all eleven regions. In FY2008, $625,000 will be made available to complete the five regional plans that were initiated in FY2007. Proposals may request up to an additional three years of staff support (up to $50,000 per year) to help implement completed regional plans. NOAA will make available $300,000 in FY2008, $550,000 in FY2009 and FY2010, and $250,000 in FY2011 to support these regional staff. It is expected that Sea Grant programs within each region will work together and submit one proposal that covers a 2-5 year period. It is anticipated that final recommendations for funding under this announcement will be made in March 2006, and that projects funded under this announcement will have a start date no earlier than June 1, 2006.

STATUTORY AUTHORITY: 33 U.S.C. 1121 et seq., as amended

CFDA: 11.417, Sea Grant Support

APPLICATION DEADLINE: Applications must be received by 5 p.m. e.s.t. on February 9, 2006.

ADDRESS FOR SUBMITTING APPLICATIONS: Applications should be submitted through Grants.gov APPLY http://www.grants.gov. Applicants for whom online application is an undue hardship may submit hard copies (an original and two copies) to: National Sea Grant College Program, R/SG, Attn: Regional Competition, Rm 11732, NOAA, 1315 East-West Highway, Silver Spring, MD 20910. The full text of the funding opportunity announcement for this competition can be accessed via Grants.gov FIND Web site: http://www.grants.gov. This announcement will also be available at the NOAA Web site: http://www.ofa.noaa.gov/%7Eamd/SOLINDEX.HTML or by contacting the program official identified in INFORMATION CONTACT.

INFORMATION CONTACT: Dr. Leon M. Cammen at leon.cammen@noaa.gov or 301-713-2435 ext. 136.

ELIGIBILITY: Proposals may be submitted only by the designated managing Sea Grant College or Institutional Program.

COST SHARING REQUIREMENTS: Matching funds equal to at least 50 percent of the Federal funding must be provided to support the proposed regional planning.

INTERGOVERNMENTAL REVIEW: Applications under this program are not subject to Executive Order 12372, “Intergovernmental Review of Federal Programs.”

Limitation of Liability

Funding for programs listed in this notice is contingent upon the availability of Fiscal Year 2006 appropriations. In no event will NOAA or the Department of Commerce be responsible for application preparation costs if these programs fail to receive funding or are cancelled because of other agency priorities. Publication of this announcement does not oblige NOAA to award any specific project or to obligate any available funds.

Universal Identifier

Applicants should be aware that, they are required to provide a Dun and Bradstreet Data Universal Numbering System (DUNS) number during the application process. See the October 30, 2002 Federal Register, (69 FR 66177) for additional information. Organizations can receive a DUNS number at no cost by calling the dedicated toll-free DUNS Number request line at 1-866-705-5711 or via the Internet http://www.dunandbradstreet.com.

National Environmental Policy Act (NEPA)

NOAA must analyze the potential environmental impacts, as required by the National Environmental Policy Act (NEPA), for applicant projects or proposals that are seeking NOAA federal funding opportunities. Detailed information on NOAA compliance with NEPA can be found at the following NOAA NEPA Web site: http://www.nepa.noaa.gov/, including our NOAA Administrative Order 216-6 for NEPA, http://www.nepa.noaa.gov/NAO216__6__TOC.pdf, and the Council on Environmental Quality implementation regulations, http://ceq.eh.doe.gov/nepa/regs/ceq/toc_ceq.htm.

Consequently, as part of an applicant's package, and under their description of their program activities, applicants are required to provide detailed information on the activities to be conducted, locations, sites, species and habitat to be affected, possible construction activities, and any environmental concerns that may exist (e.g., the use and disposal of hazardous or toxic chemicals, introduction of non-indigenous species, impacts to endangered and threatened species, aquaculture projects, and impacts to coral reef systems). In addition to providing specific information that will serve as the basis for any required impact analyses, applicants may also be requested to assist NOAA in drafting of an environmental assessment, if NOAA determines an assessment is required. Applicants will also be required to cooperate with NOAA in identifying and implementing feasible measures to reduce or avoid any identified adverse environmental impacts of their proposal. The failure to do so shall be grounds for the denial of not selecting an application. In some cases if additional information is required after an application is selected, funds can be withheld by the Grants Officer under a special award condition requiring the recipient to submit additional environmental compliance information sufficient to enable NOAA to make an assessment on any impacts that a project may have on the environment.

Pre-Award Notification Requirements for Grants and Cooperative Agreements

The Department of Commerce Pre-Award Notification Requirements for Grants and Cooperative Agreements contained in the Federal Register notice of December 30, 2004 (69 FR 78389), are applicable to this solicitation.

Paperwork Reduction Act

This document contains collection-of-information requirements subject to the Paperwork Reduction Act (PRA). The use of Standard Forms 424, 424A, 424B, SF-LLL, and CD-346 has been approved by the Office of Management and Budget (OMB) under the respective control numbers 0348-0043, 0348-0044, 0348-0040, 0348-0046, and 0605-0001. Notwithstanding any other provision of law, no person is required to respond to, nor shall any person be subject to a penalty for failure to comply with, a collection of information subject to the requirements of the PRA unless that collection of information displays a currently valid OMB control number.

Executive Order 12866

This notice has been determined to be not significant for purposes of Executive Order 12866.

Executive Order 13132 (Federalism)

It has been determined that this notice does not contain policies with Federalism implications as that term is defined in Executive Order 13132.

Administrative Procedure Act/ Regulatory Flexibility Act

Prior notice and an opportunity for public comment are not required by the Administrative Procedure Act or any other law for rules concerning public property, loans, grants, benefits, and contracts (5 U.S.C. 553(a)(2)).

Because notice and opportunity for comment are not required pursuant to 5 U.S.C. 553 or any other law, the analytical requirements of the Regulatory Flexibility Act (5 U.S.C. 601 et seq.) are inapplicable. Therefore, a regulatory flexibility analysis has not been prepared.

Dated: December 20, 2005.
Helen Hurcombe,
Director, Acquisition and Grants Office, National Oceanic and Atmospheric Administration.

[FR Doc. E5-7786 Filed 12-22-05; 8:45 am]

BILLING CODE 3510-12-S